DEPARTMENT OF HOMELAND SECURITY

Coast Guard

33 CFR Parts 100 and 165

[USCG-2004-18677]

Quarterly Listings; Safety Zones, Security Zones, and Special Local Regulations

AGENCY: Coast Guard, DHS.

ACTION: Notice of temporary rules issued.

SUMMARY: This document provides required notice of substantive rules issued by the Coast Guard and temporarily effective between April 1, 2004 and June 30, 2004, that were not published in the Federal Register. This quarterly notice lists temporary special local regulations, security zones, and safety zones, all of limited duration and for which timely publication in the Federal Register was not possible.

DATES: This document lists temporary Coast Guard rules that became effective and were terminated between April 1, 2004, and June 30, 2004.

ADDRESSES: The Docket Management Facility maintains the public docket for this notice. Documents indicated in this notice will be available for inspection or copying at the Docket Management Facility, U.S. Department of Transportation, Room PL-401, 400 Seventh Street SW., Washington, DC 20593-0001 between 9 a.m. and 5 p.m., Monday through Friday, except Federal Holidays. You may electronically access the public docket for this notice on the Internet at http://dms.dot.gov.

FOR FURTHER INFORMATION CONTACT: For questions on this notice contact LT Jeff Bray, Office of Regulations and Administrative Law, telephone (202) 267-2830. For questions on viewing, or on submitting material to the docket, contact Andrea M. Jenkins, Program Manager, Docket Operations, telephone 202-366-0271.

SUPPLEMENTARY INFORMATION: Coast Guard District Commanders and Captains of the Port (COTP) must be immediately responsive to the safety and security needs within their jurisdiction; therefore, District Commanders and COTPs have been delegated the authority to issue certain regulations. Safety zones may be established for safety or environmental purposes. A safety zone may be stationary and described by fixed limits or it may be described as a zone around a vessel in motion. Security zones limit access to prevent injury or damage to vessels, ports, or waterfront facilities and may also describe a zone around a vessel in motion. Special local regulations are issued to enhance the safety of participants and spectators at regattas and other marine events. Timely publication of these rules in the Federal Register is often precluded when a rule responds to an emergency, or when an event occurs without sufficient advance notice. The affected public is, however, informed of these rules through Local Notices to Mariners, press releases, and other means. Moreover, actual notification is provided by Coast Guard patrol vessels enforcing the restrictions imposed by the rule. Because Federal Register publication was not possible before the beginning of the effective period, mariners were personally notified of the contents of these special local regulations, security zones, or safety zones by Coast Guard officials' on-scene prior to any enforcement action. However, the Coast Guard, by law, must publish in the Federal Register notice of substantive rules adopted. To meet this obligation without imposing undue expense on the public, the Coast Guard periodically publishes a list of these temporary special local regulations, security zones and safety zones. Permanent rules are not included in this list because they are published in their entirety in the Federal Register. Temporary rules are also published in their entirety if sufficient time is available to do so before they are placed in effect or terminated. The safety zones, special local regulations and security zones listed in this notice have been exempted from review under Executive Order 12866, Regulatory Planning and Review, because of their emergency nature, or limited scope and temporary effectiveness.

The following rules were placed in effect temporarily during the period from April 1, 2004, through June 30, 2004, unless otherwise indicated.

Dated: July 20, 2004.
C.G. Green,
Acting Chief, Office of Regulations and Administrative Law.

District Quarterly Report—2nd Quarter 2004
District docket | Location | Type | Effective date
01-04-037 | Wells, ME | Security Zone | 4/22/2004
01-04-041 | New London, CT | Security Zone | 5/19/2004
01-04-050 | Norwalk, CT | Safety Zone | 4/11/2004
01-04-052 | Jones Beach 75th Anniversary Air Show, NY | Safety Zone | 5/30/2004
01-04-077 | East River, NY | Safety Zone | 6/24/2004
05-03-086 | Chesapeake Bay, James River, Williamsburg, VA | Safety Zone | 5/4/2004
05-04-051 | Bogue Sound, NC | Safety Zone | 4/6/2004
05-04-053 | Atlantic Ocean, Delaware Bay, and Delaware | Security Zone | 5/6/2004
05-04-058 | Bogue Sound, NC | Safety Zone | 4/20/2004
05-04-059 | Washington, DC | Safety Zone | 4/10/2004
05-04-062 | Hampton Roads, VA | Security Zone | 4/1/2004
05-04-063 | Virginia Beach, VA | Safety Zone | 4/5/2004
05-04-064 | Chesapeake Bay, Sandy Point to Kent Island | Security Zone | 5/2/2004
05-04-064 | St. Mary's River, St. Mary's City, MD | Special Local Reg | 4/24/2004
05-04-069 | Hampton Roads, VA | Security Zone | 4/8/2004
05-04-074 | Willoughby Bay, Norfolk, VA | Special Local Reg | 4/24/2004
05-04-075 | Hampton Roads, Elizabeth River, VA | Security Zone | 4/12/2004
05-04-076 | Hampton Roads, VA | Security Zone | 4/13/2004
05-04-077 | Hampton Roads, VA | Security Zone | 4/18/2004
05-04-078 | Hampton Roads, VA | Security Zone | 4/22/2004
05-04-079 | Bogue Sound, NC | Safety Zone | 4/14/2004
05-04-080 | Hampton Roads, VA | Security Zone | 4/27/2004
05-04-082 | Chesapeake Bay, Hampton Roads, VA | Security Zone | 4/27/2004
05-04-083 | Baltimore, MD | Security Zone | 4/27/2004
05-04-084 | Chesapeake Bay, Hampton Roads, VA | Security Zone | 5/3/2004
05-04-085 | Atlantic Intracoastal Waterway, Sunset Beach | Safety Zone | 4/27/2004
05-04-088 | Chesapeake Bay, Hampton Roads, VA | Security Zone | 5/17/2004
05-04-089 | Chesapeake Bay, Hampton Roads, VA | Security Zone | 5/12/2004
05-04-091 | Atlantic Ocean, Virginia Beach, VA | Safety Zone | 5/14/2004
05-04-092 | M/V Sequoia G-8 Summit, Washington, DC | Security Zone | 5/10/2004
05-04-093 | G-8 Summit, Washington, DC | Security Zone | 5/11/2004
05-04-094 | American-Israeli Political Action Committee | Security Zone | 5/17/2004
05-04-095 | Chesapeake Bay, VA | Security Zone | 5/17/2004
05-04-096 | Chesapeake Bay, Hampton Roads, VA | Security Zone | 5/27/2004
05-04-097 | Chesapeake Bay, Hampton Roads, VA | Security Zone | 5/22/2004
05-04-102 | Chesapeake Bay, Hampton Roads, VA | Security Zone | 6/1/2004
05-04-103 | Chesapeake Bay, Hampton Roads, VA | Security Zone | 5/29/2004
05-04-107 | Manasquan River, Manasquan Inlet and Atlantic | Special Local Reg | 6/27/2004
05-04-109 | Big Timber Creek, Westville, NJ | Special Local Reg | 6/26/2004
05-04-112 | Chesapeake Bay, Hampton Roads, VA | Security Zone | 6/10/2004
05-04-113 | Chesapeake Bay, Hampton Roads, VA | Security Zone | 6/14/2004
05-04-114 | Chesapeake Bay, Hampton Roads, VA | Security Zone | 6/27/2004
05-04-115 | Chesapeake Bay, Hampton Roads, VA | Security Zone | 6/21/2004
05-04-119 | Potomac River, Alexandria, VA | Safety Zone | 6/19/2004
05-04-124 | Potomac River, Chery Hill, VA | Safety Zone | 6/26/2004
07-04-029 | Indian Creek, Miami | Special Local | 5/1/2004
07-04-083 | St. Petersburg, FL | Special Local Reg | 6/25/2004
09-04-001 | Staten Island Ferry, 2 Menominee River | Safety Zone | 5/8/2004
09-04-010 | Trenton Channel, MI | Safety Zone | 4/7/2004
09-04-013 | Lake Michigan | Safety Zone | 6/11/2004
09-04-019 | Rockets for Schools, Sheboygan, WI | Safety Zone | 5/15/2004
09-04-022 | Captain of the Port Detroit Zone, Detroit | Security Zone | 5/20/2004
09-04-029 | Ontario, NY | Safety Zone | 5/31/2004
09-04-033 | Sackets Harbor, NY | Safety Zone | 6/12/2004
09-04-036 | Lake Michigan | Safety Zone | 6/19/2004
09-04-037 | North Channel, St. Clair River, MI | Safety Zone | 6/5/2004
09-04-038 | Lake Michigan | Security Zone | 6/10/2004
09-04-039 | Lake Huron, MI | Safety Zone | 6/12/2004
09-04-040 | Brownstown, Lake Erie, MI | Safety Zone | 6/12/2004
09-04-041 | St. Mary's River | Safety Zone | 6/18/2004
09-04-042 | Detroit River | Security Zone | 6/17/2004
09-04-043 | Detroit River | Security Zone | 6/17/2004
09-04-045 | Detroit River | Safety Zone | 6/20/2004
09-04-046 | Ottawa River | Safety Zone | 6/26/2004
09-04-048 | Saginaw River, Bay City, MI | Safety Zone | 6/25/2004
13-04-021 | Columbia River | Safety Zone | 4/20/2004
13-04-024 | Sitcum Waterway, Commencement Bay, Puget | Security Zone | 5/1/2004
13-04-027 | Budd Inlet | Security Zone | 6/6/2004

COTP Quarterly Report—2nd Quarter 2004
COTP Docket | Location | Type | Effective date
Jacksonville 04-042 | Fernandina Beach, FL | Safety Zone | 4/30/2004
Jacksonville 04-048 | St. Johns River, Palatka, FL | Safety Zone | 5/28/2004
Jacksonville 04-049 | St. Johns River, Green Cove Springs, FL | Safety Zone | 5/31/2004
Jacksonville 04-050 | St. John's River | Safety Zone | 6/11/2004
Jacksonville 04-060 | St. Johns River, Jacksonville, FL | Security Zone | 5/11/2004
Jacksonville 04-061 | Indian River, FL | Safety Zone | 6/26/2004
Jacksonville 04-087 | Jacksonville, FL | Safety Zone | 6/24/2004
Los Angeles 04-002 | Point Mugu, CA | Security Zone | 6/9/2004
Los Angeles 04-003 | Long Beach, CA | Safety Zone | 6/21/2004
Miami 04-027 | Red Bull Flugtag, Miami, FL | Safety Zone | 4/24/2004
Miami 04-032 | Sun Fest Fireworks, West Palm Beach, FL | Safety Zone | 4/30/2004
Miami 04-063 | Million Dollar Rubber Duck Race, Miami River, | Safety Zone | 6/13/2004
Mobile 04-009 | Biloxi, MS | Safety Zone | 4/24/2004
Morgan City 04-005 | Atchafalaya River | Security Zone | 4/12/2004
Pittsburg 04-002 | Allegheny River | Safety Zone | 4/7/2004
Pittsburg 04-005 | Allegheny River | Safety Zone | 4/24/2004
Pittsburg 04-006 | Sllegheny River | Safety Zone | 5/7/2004
Port Arthur 04-005 | Sabine River | Safety Zone | 4/28/2004
San Diego 04-006 | Oceanside Harbor, CA | Safety Zone | 4/3/2004
San Diego 04-008 | Parker, AZ | Safety Zone | 4/17/2004
San Diego 04-009 | Colorado River, Between Laughlin Bridge | Safety Zone | 5/7/2004
San Diego 04-010 | Crazy Horse Campground, Lake Havasu, AZ | Safety Zone | 5/15/2004
San Diego 04-012 | Lake Havasu | Safety Zone | 6/5/2004
San Diego 04-013 | Colorado River | Safety Zone | 6/5/2004
San Diego 04-014 | Crazy Horse Campground, Lake Havasu, AZ | Safety Zone | 6/26/2004
Savannah 04-040 | Savannah River, Savannah, GA | Security Zone | 4/24/2004
Savannah 04-059 | Savannah River | Security Zone | 4/7/2004
Savannah 04-080 | Brunswick River, Brunswick, GA | Security Zone | 6/5/2004
SF Bay 04-005 | San Francisco Bay | Safety Zone | 4/13/2004
SF Bay 04-008 | San Francisco Bay, CA | Safety Zone | 5/19/2004
SF Bay 04-009 | Solando County, CA | Safety Zone | 4/29/2004
SF Bay 04-011 | Suisin Bay | Security Zone | 5/12/2004
SF Bay 04-013 | Middle River | Safety Zone | 6/3/2004
SF Bay 04-015 | Suisin Bay | Safety Zone | 6/25/2004
SF Bay 04-017 | San Francisco Bay | Security Zone | 6/27/2004

[FR Doc. 04-17015 Filed 7-26-04; 8:45 am]

BILLING CODE 4910-15-M